FEDERAL HOUSING FINANCE AGENCY

[No. 2010-N-03]

Proposed Collection; Comment Request

AGENCY: Federal Housing Finance Agency.

ACTION: 60-day notice of submission of information collection for approval from the Office of Management and Budget.

SUMMARY: In accordance with the requirements of the Paperwork Reduction Act of 1995, the Federal Housing Finance Agency (FHFA) is seeking public comments concerning the information collection known as “Members of the Banks,” which has been assigned control number 2590-0003 by the Office of Management and Budget (OMB). FHFA intends to submit the information collection to OMB for review and approval of a three-year extension of the control number, which is due to expire on July 31, 2010.

DATES: Interested persons may submit comments on or before May 28, 2010.

ADDRESSES: Submit comments to the FHFA using any one of the following methods:

• E-mail: regcomments@fhfa.gov. Please include Proposed Collection; Comment Request: “Members of the Banks, (No. 2010-N-03)” in the subject line of the message.

• Mail/Hand Delivery: Federal Housing Finance Agency, Fourth Floor, 1700 G Street NW., Washington, DC 20552, ATTENTION: Public Comments/Proposed Collection; Comment Request: “Members of the Banks, (No. 2010-N-03).”

• Federal eRulemaking Portal: http://www.regulations.gov. Follow the instructions for submitting comments. If you submit your comment to the Federal eRulemaking Portal, please also send it by e-mail to FHFA at regcomments@fhfa.gov to ensure timely receipt by the agency.

We will post all public comments we receive without change, including any personal information you provide, such as your name and address, on the FHFA Web site at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at 202-414-6924.

FOR FURTHER INFORMATION CONTACT: Jonathan F. Curtis, Financial Analyst, Division of Federal Home Loan Bank Regulation, by telephone at 202-408-2866 (not a toll free number), by e-mail at jonathan.curtisj@fhfa.gov, or by regular mail at the Federal Housing Finance Agency, 1625 Eye Street, NW., Washington, DC 20006. The telephone number for the Telecommunications Device for the Deaf is 800-877-8339.

SUPPLEMENTARY INFORMATION:

A. Need for and Use of the Information Collection

Section 4 of the Federal Home Loan Bank Act (Bank Act) establishes the eligibility requirements an institution must meet in order to become a member of a Federal Home Loan Bank (Bank).¹ The membership rule, which implements section 4 of the Bank Act, provides uniform requirements an applicant for Bank membership must meet and review criteria a Bank must apply to determine if an applicant satisfies the statutory and regulatory membership eligibility requirements.²

¹ 12 U.S.C. 1424.

² 12 CFR part 1263 (former part 925). See 75 FR 678, 690 (Jan. 5, 2010).

More specifically, the membership rule implements the statutory eligibility requirements and provides guidance on how an applicant may satisfy such requirements. The rule authorizes a Bank to approve or deny each membership application subject to the statutory and regulatory requirements and permits an applicant to appeal to FHFA a Bank's decision to deny certification as a Bank member. The rule also imposes a continuing obligation on a current Bank member to provide information necessary to determine if it remains in compliance with applicable statutory and regulatory eligibility requirements.

The information collection is necessary to enable a Bank to determine whether prospective and current Bank members satisfy the statutory and regulatory requirements to be certified initially and maintain their status as members eligible to obtain Bank advances. FHFA requires and uses the information collection to determine whether to uphold or overrule a Bank's decision to deny member certification to an applicant.

The OMB control number for the information collection is 2590-0003, which is due to expire on July 31, 2010. The likely respondents are institutions that want to be certified as or are members of a Bank seeking continued certification.

B. Burden Estimate

FHFA estimates the total annual average number of respondents who are initial applicants at 212, with 1 response per applicant. The estimate for the average hours per application is 21.5 hours. The estimate for the annual hour burden for applicants is 4,558 hours (212 applicants × 1 response per applicant × 21.5 hours per response).

FHFA estimates the total annual average number of maintenance respondents, i.e., current Bank members, at 8,106, with 1 response per member. The estimate for the average hours per maintenance response is 0.6 hours. The estimate for the annual hour burden for Bank members is 4,864 hours (8,106 members × 1 response per member × 0.6 hours per response).

The estimate for the total annual hour burden for all respondents is 9,422 hours.

C. Comment Request

FHFA requests written comments on the following: (1) Whether the collection of information is necessary for the proper performance of FHFA functions, including whether the information has practical utility; (2) the accuracy of FHFA's estimates of the burdens of the collection of information; (3) ways to enhance the quality, utility, and clarity of the information collected; and (4) ways to minimize the burden of the collection of information on respondents, including through the use of automated collection techniques or other forms of information technology.

Dated: March 22, 2010.
Edward J. DeMarco,
Acting Director, Federal Housing Finance Agency.

[FR Doc. 2010-6912 Filed 3-26-10; 8:45 am]

BILLING CODE 8070-01-P